ENVIRONMENTAL PROTECTION AGENCY

40 CFR Part 710

[EPA-HQ-OPPT-2006-0981; FRL-8109-9]

RIN 2070-AC61

2006 Reporting Notice and Amendment; Partial Updating of TSCA Inventory Database; Chemical Substance Production, Processing, and Use Site Reports

AGENCY: Environmental Protection Agency (EPA).

ACTION: Final rule; Amendment; Notice of submission period extension.

SUMMARY: EPA is amending the Toxic Substances Control Act (TSCA) Inventory Update Reporting (IUR) regulations by extending the submission deadline for 2006 reports from December 23, 2006 to March 23, 2007. This is a one-time extension for the 2006 submission period only. The IUR requires manufacturers and importers of certain chemical substances included on the TSCA Chemical Substance Inventory to report current data on the manufacturing, processing, and use of the substances.

DATES: This final rule is effective December 20, 2006. The 2006 IUR submission period is extended to run from December 23, 2006 to March 23, 2007.

ADDRESSES: EPA has established a docket for this action under docket identification (ID) number EPA-HQ-OPPT-2006-0981. All documents in the docket are listed on the regulations.gov website. Although listed in the index, some information is not publicly available, e.g., Confidential Business Information (CBI) or other information whose disclosure is restricted by statute. Certain other material, such as copyrighted material, is not placed on the Internet and will be publicly available only in hard copy form. The EPA Docket Center (EPA/DC) suffered structural damage due to flooding in June 2006. Although the EPA/DC is continuing operations, there will be temporary changes to the EPA/DC during the clean-up. The EPA/DC Public Reading Room, which was temporarily closed due to flooding, has been relocated in the EPA Headquarters Library, Infoterra Room (Rm. 3334) in the EPA West Bldg., located at 1301 Constitution Ave., NW., Washington, DC. The EPA/DC Public Reading Room is open from 8:30 a.m. to 4:30 p.m., Monday through Friday, excluding legal holidays. The telephone number for the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA website at http://www.epa.gov/epahome/dockets.htm.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Susan Sharkey, Economics, Exposure, and Technology Division (7406M), Office of Pollution Prevention and Toxics, Environmental Protection Agency, 1200 Pennsylvania Ave., NW., Washington, DC 20460-0001; telephone number: (202) 564-8789; e-mail address: sharkey.susan@epa.gov.

SUPPLEMENTARY INFORMATION:

I. General Information

You may be potentially affected by this action if you manufacture (defined by statute at 15 U.S.C. 2602(7) to include import) chemical substances, including inorganic chemical substances, subject to reporting under IUR regulations at 40 CFR part 710. Any use of the term ‘‘manufacture'' in this document will encompass import, unless otherwise stated.

Potentially affected entities may include, but are not limited to: Chemical manufacturers and importers subject to IUR reporting, including chemical manufacturers and importers of inorganic chemical substances (NAICS codes 325, 32411).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 710.48. If you have any questions regarding the applicability of this action to a particular entity, consult the technical person listed under FOR FURTHER INFORMATION CONTACT.

II. Background

A. What Action is the Agency Taking?

EPA is issuing this amendment to extend the 2006 submission period for IUR reporting until March 23, 2007. The December 19, 2005, Inventory Update Reporting Revisions Final Rule designated the IUR submission period to be August 25, 2006 to December 23, 2006. A subsequent Federal Register document was published on September 11, 2006 (71 FR 53335) (FRL-8088-5), again providing notice of the need to report and reiterating the August 25 to December 23, 2006, submission period. The Agency is taking this action in response to concerns raised by the regulated community about their ability to submit the required information within the prescribed period. Written requests to extend the IUR submission period are included in the docket (see ADDRESSES). The compelling concerns raised by industry include the timing of guidance finalization, issues associated with the reporting software, and issues associated with first-time reporting for inorganic chemical substances.

1. Guidance documents. The guidance documents available to the regulated community prior to the submission period were draft final documents, which EPA did not finalize until about 2 months after the beginning of the submission period.

2. Reporting software. The Agency provided reporting software for the regulated community to use to complete the IUR reporting form. Some members of the regulated community have had difficulty with the reporting software, resulting in the need to recompile their information and spend significant time troubleshooting their systems.

3. First-time reporting for inorganic chemical substances. Members of the regulated community associated with the manufacturing (including importing) of inorganic chemical substances have many new and/or complex questions concerning the reportability and chemical identification of inorganic substances. EPA agrees that there are many aspects of manufacturing inorganic chemical substances that are quite different from those that exist in the realm of organic chemical substances, which had comprised the previous IUR reporting. Concerns were raised about the length of time needed to determine the answers to these complex questions.

EPA believes it is appropriate to extend the reporting period to allow the reporters associated with inorganic chemical substances to determine their reporting obligations and to allow the regulated community to adjust to the new software and submit their reports.

B. What is the Agency's Authority for Taking this Action?

The IUR rule is issued pursuant to the authority of section 8(a) of TSCA, 15 U.S.C. 2607(a). The regulations for this rule are located at 40 CFR part 710, subpart C. In the Federal Register of January 7, 2003 (68 FR 848) (FRL-6767-4), EPA promulgated extensive amendments to the IUR regulation (2003 Amendments) to collect exposure-related information associated with the manufacturing, processing, and use of eligible chemical substances and to make certain other changes.

Under section 553(b)(3)(B) of the Administrative Procedure Act (APA), 5 U.S.C. 553(b)(3)(B), the Agency may issue a final rule without a prior proposal if it finds that notice and public participatory procedures are impracticable, unnecessary, or contrary to the public interest. In this case, for the extension sought, the Agency does find that normal notice and public process rulemaking is unnecessary.

The Agency believes that this one-time extension is not of significant impact to the public. This action does not alter the substantive IUR reporting requirements in any way. The Agency also believes the one-time extension will not result in a significant delay in the processing and availability of IUR information to potential users. Further, this action is consistent with the public interest because it is designed to facilitate compliance with the IUR rule and to ensure that the 2006 collection includes accurate data on chemical manufacturing, processing, and use in the United States. Finally, any impact on the regulated community is expected to be beneficial given that the one-time extension provides additional time to submit IUR reports to EPA.

Similarly, under section 553(d) of the APA, 5 U.S.C. 553(d), the Agency may make a rule immediately effective “for good cause found and published with the rule.” For the reasons discussed in this unit, EPA believes that there is “good cause” to make this amendment effective upon publication in the Federal Register.

III. Statutory and Executive Order Reviews

A. Executive Order 12866

This action is classified as a final rule because it makes an amendment to the Code of Federal Regulations (CFR). The amendment to the CFR is necessary to allow for a one-time extension to the 2006 reporting IUR period. This action does not impose any new requirements or amend substantive requirements. This action is not subject to review by the Office of Management and Budget (OMB) under Executive Order 12866, entitled Regulatory Planning and Review (58 FR 51735, October 4, 1993).

B. Paperwork Reduction Act

This final rule does not contain any information collections subject to OMB approval under the Paperwork Reduction Act (PRA), 44 U.S.C. 3501 et seq.

C. Regulatory Flexibility Act

Because this action does not impose any new requirements or amend the substantive requirements, EPA certifies this action will not have a significant economic impact on a substantial number of small entities and there will be no adverse impact on small entities resulting from this action under section 605(b) of the Regulatory Flexibility Act (RFA) (5 U.S.C. 601 et seq.)

D. Unfunded Mandates Reform Act

This action does not impose any enforceable duty or contain any unfunded mandate as described under Title II of the Unfunded Mandates Reform Act of 1995 (UMRA) (Public Law 104-4).

E. Executive Order 13132

The Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications'' is defined in the Executive Order to include regulations that have “substantial direct effects on the States, on the relationship between the national government and the States, or on the distribution of power and responsibilities among the various levels of government.” This action does not alter the relationships or distribution of power and responsibilities established by Congress.

F. Executive Order 13175

The Agency has determined that this rule does not have any “tribal implications” as described in Executive Order 13175, entitled Consultation and Coordination with Indian Tribal Governments (65 FR 22951, November 6, 2000). Executive Order 13175, requires EPA to develop an accountable process to ensure “meaningful and timely input by tribal officials in the development of regulatory policies that have tribal implications.” This final rule will not have substantial direct effects on tribal governments, on the relationship between the Federal Government and Indian tribes, or on the distribution of power and responsibilities between the Federal Government and Indian tribes, as specified in Executive Order 13175. Thus, Executive Order 13175 does not apply to this rule.

G. Executive Order 13045

This action does not require OMB review or any other Agency action under Executive Order 13045, entitled Protection of Children from Environmental Health Risks and Safety Risks (62 FR 19885, April 23, 1997).

H. Executive Order 13211

Because this final rule is exempt from review under Executive Order 12866 due to its lack of significance, this final rule is not subject to Executive Order 13211, entitled Actions Concerning Regulations That Significantly Affect Energy Supply, Distribution, or Use (66 FR 28355, May 22, 2001).

I. National Technology Transfer Advancement Act

This action does not involve any technical standards that would require Agency consideration of voluntary consensus standards pursuant to section 12(d) of the National Technology Transfer and Advancement Act of 1995 (NTTAA), Public Law 104-113, section 12(d) (15 U.S.C. 272 note).

J. Executive Order 12898

This action does not involve special considerations of environmental justice related issues as required by Executive Order 12898, entitled Federal Actions to Address Environmental Justice in Minority Populations and Low-Income Populations (59 FR 7629, February 16, 1994).

IV. Congressional Review Act

The Congressional Review Act, 5 U.S.C. 801 et seq., generally provides that before a rule may take effect, the agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 710

Environmental protection, Chemicals, Hazardous materials, Inventory Update Reporting, IUR, Reporting and recordkeeping requirements, TSCA.

Dated: December 15, 2006.
James B. Gulliford,
Assistant Administrator, Office of Prevention, Pesticides and Toxic Substances.

Therefore, 40 CFR chapter I is amended as follows:

PART 710—[AMENDED]

1. The authority citation for part 710 continues to read as follows:

Authority: 15 U.S.C. 2607(a).

2. In § 710.53, revise the second sentence to read as follows:

§ 710.53 When to report.

* * * The first submission period is from August 25, 2006 to March 23, 2007.* * *

[FR Doc. E6-21711 Filed 12-19-06; 8:45 am]

BILLING CODE 6560-50-S